DEPARTMENT OF TRANSPORTATION

National Highway Traffic Safety Administration

[Docket No. NHTSA-2018-0087]

Federal Advisory Committee National Emergency Medical Services Advisory Council (NEMSAC); Notice of Meeting

AGENCY: National Highway Traffic Safety Administration (NHTSA), U.S. Department of Transportation (DOT).

ACTION: Meeting notice—National Emergency Medical Services Advisory Council.

SUMMARY: The NHTSA announces a meeting of the NEMSAC to be held in the Metropolitan Washington, DC, area. This notice announces the date, time, and location of the meeting, which will be open to the public, as well as opportunities for public input to the NEMSAC. The purpose of NEMSAC, a nationally recognized council of emergency medical services representatives and consumers, is to advise and consult with DOT and the Federal Interagency Committee on Emergency Medical Services (FICEMS) on matters relating to emergency medical services (EMS).

DATES: The NEMSAC meeting will be held on October 15, 2018 from 8:30 a.m. to 4:00 p.m. EDT, and on October 16, 2018 from 8:30 a.m. to 12:00 p.m. EDT. A public comment period will take place on October 15, 2018 between 11:15 a.m. and 11:45 a.m. EDT and October 16, 2018 between 10:45 a.m. and 11:15 a.m. EDT. Written comments for the NEMSAC from the public must be received no later than October 8, 2018.

ADDRESSES: The meetings will be held at the U.S. Department of Transportation Headquarters, 1200 New Jersey Avenue SE, Washington, DC 20590. Attendees should plan to arrive 10-15 minutes early.

FOR FURTHER INFORMATION CONTACT: Gamunu Wijetunge, U.S. Department of Transportation, Office of Emergency Medical Services, 1200 New Jersey Avenue SE, NPD-400, Washington, DC 20590, Gamunu.Wijetunge@dot.gov or 202-493-2793.

SUPPLEMENTARY INFORMATION: Notice of the NEMSAC meeting is given under the Federal Advisory Committee Act, Public Law 92-463, as amended (5 U.S.C. App.). The NEMSAC is authorized under Section 31108 of the Moving Ahead with Progress in the 21st Century Act of 2012.

Tentative Agenda of the National EMS Advisory Council Meeting

The tentative NEMSAC agenda includes the following:

Monday, October 15, 2018 (8:30 a.m. to 4:00 p.m. EDT)

(1) Call to Order, Introductions, and Opening Remarks (8:30 a.m. to 9:00 a.m. EDT)

(2) Swearing in of NEMSAC Members (9:00 a.m. to 9:15 a.m. EDT)

(3) Disclosure of Conflicts of Interest by NEMSAC Members (9:15 a.m. to 9:30 a.m. EDT)

(4) Approval of August 14-15, 2017 Meeting Minutes (9:30 a.m. to 9:45 a.m. EDT)

(5) Federal Liaison Update—Reports and Updates from the Departments of Transportation, Homeland Security, and Health & Human Services (9:45 a.m. to 10:30 a.m. EDT)

(6) Overview of the FICEMS Strategic Plan (10:30 a.m. to 11:15 a.m. EDT)

(7) Public Comment Period (11:15 a.m. to 11:45 a.m. EDT)

(8) Recess for Lunch—(11:45 a.m. to 1:15 p.m. EDT)

(9) Continue discussion of FICEMS Strategic Plan (1:15 p.m. to 2:15 p.m. EDT)

(10) Review and Discussion of Previously Approved NEMSAC Recommendations (2:15 p.m. to 3:15 p.m. EDT)

(11) Review of Ongoing NHTSA Projects (3:15 p.m. to 4:00 p.m. EDT)

Tuesday, October 16, 2018 (8:30 a.m. to 4:00 p.m. EDT)

(1) Reconvene and Introductions (8:30 a.m.-8:45 a.m. EDT)

(2) Discussion of NEMSAC Focus Areas for 2018-2019 (9:30 a.m.-10:45 a.m. EDT)

(3) Public Comment Period (10:45 a.m. to 11:15 a.m. EDT)

(4) Continue Discussion of NEMSAC Focus Areas for 2018-2019 (10:45 a.m.-11:30 a.m. EDT)

(5) Election of Chair and Vice-Chair (11:30 a.m.-11:45 a.m. EDT)

(6) NEMSAC Next Steps and Wrap Up, and Adjourn (11:45 a.m.-12 Noon EDT)

Registration Information: This meeting will be open to the public; however, pre-registration is requested. Individuals wishing to attend must register online no later than October 8, 2018. For NEMSAC please register at: https://www.connect.space/nemsac-2018. For assistance with NEMSAC registration, please contact Gamunu Wijetunge at Gamunu.Wijetunge@dot.gov or 202-493-2793. There will not be a teleconference option for this meeting.

Public Comment: Members of the public are encouraged to comment directly to the NEMSAC during designated public comment periods. In order to allow as many people as possible to speak, speakers are requested to limit their remarks to 5 minutes. Written comments from members of the public will be distributed to NEMSAC at the meeting and should reach the NHTSA Office of EMS no later than October 8, 2018. Written comments may be submitted by either one of the following methods: (1) You may submit comments by email: nemsac@dot.gov or (2) you may submit comments by fax: (202) 366-7149.

A final agenda as well as meeting materials will be available to the public online through www.EMS.gov on or before October 8, 2018.

Authority: 44 U.S.C. Section 3506(c)(2)(A).

Issued in Washington, DC, on September 20, 2018.
Jeff Michael,
Associate Administrator, Research and Program Development.

[FR Doc. 2018-20817 Filed 9-24-18; 8:45 am]

BILLING CODE 4910-59-P